POSTAL REGULATORY COMMISSION

[Docket No. CP2026-2; Order No. 9360]

Competitive Postal Products

AGENCY: Postal Regulatory Commission.

ACTION: Notice.

SUMMARY: The Commission is recognizing a recently filed Postal Service document with the Commission concerning changes in rates of general applicability for Competitive products. This notice informs the public of the filing, invites public comment, and takes other administrative steps.

DATES: Comments are due: December 15, 2025.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction and Overview

II. Initial Administrative Actions

III. Ordering Paragraphs

I. Introduction and Overview

On November 14, 2025, the Postal Service filed notice with the Commission concerning changes in rates and classifications of general applicability for Competitive products.¹ The Postal Service represents that, as required by 39 CFR 3035.102(b) and 39 CFR 3035.104(b), the Notice includes an explanation and justification for the changes, the effective date, and a schedule of the changed rates. See Notice at 1-2. The changes are scheduled to take effect on January 18, 2026. Id. at 1.

¹ USPS Notice of Changes in Rates and Classifications of General Applicability for Competitive Products, November 14, 2025 (Notice). Pursuant to 39 U.S.C. 3632(b)(2), the Postal Service is obligated to publish the Governors' Decision and record of proceedings in the Federal Register at least 30 days before the effective date of the new rates.

Attached to the Notice is Governors' Decision No. 25-6, which states the new prices are in accordance with 39 U.S.C. 3632 and 3633 and 39 CFR 3035.102.² The Governors' Decision provides an analysis of the Competitive products' price and classification changes intended to demonstrate that the changes comply with 39 U.S.C. 3633 and 39 CFR part 3035. Governors' Decision No. 25-6 at 1. The attachment to the Governors' Decision sets forth the classification and price changes and includes draft Mail Classification Schedule (MCS) language for Competitive products of general applicability.

² Notice, Decision of the Governors of the United States Postal Service on Changes in Rates and Classification of General Applicability for Competitive Products (Governors' Decision No. 25-6), at 1 (Governors' Decision No. 25-6).

The Notice also includes an application for non-public treatment of the attributable costs, contribution, and cost coverage data in the unredacted version of the annex to the Governors' Decision, as well as the supporting materials for the data. Notice at 1.

Planned price and classification changes. The Governors' Decision includes an overview of the Postal Service's planned price changes which are summarized in the table below.

Table I—1 Proposed Price Changes
Product name | Average price increase (percent)
Domestic Competitive Products
Priority Mail Express | 5.1
Retail | 5.0
Commercial | 5.9
Priority Mail | 6.6
Retail | 6.3
Commercial | 6.9
Parcel Select | 6.0
Destination Delivery Unit | 5.9
Destination Sectional Center Facility | 5.9
Connect Local | 4.9
USPS Ground Advantage | 7.8
Retail | 5.9
Commercial | 9.6
Alaska Limited Overland Routes | 9.9
Domestic Extra Services
Package Intercept Service | 6.0
Adult Signature Service: |
Required | 15.5
Restricted Delivery | 15.6
Premium Forwarding Service: |
Local | 6.8
Reshipment | 6.8
Enrollment—online | 6.9
Enrollment—retail | 6.9
Priority Mail Half Tray Box | 6.9
Priority Mail Full Tray Box | 6.9
Priority Mail Express Half Tray Box | 6.9
Priority Mail Express Full Tray Box | 6.9
Competitive Post Office Box | 5.7
Label Delivery Service | 6.5
Domestic Business Mailing Fees
Forward and Return to Sender Parcel Select | 5.6
ACS with Shipper Paid Forwarding/Returns, Parcel Select | 6.7
International Competitive Products
Priority Mail Express International | 5.9
Priority Mail International | 5.9
International Priority Airmail | 5.9
Airmail M-Bags | 44.0
First-Class Package International Service | 5.9
International Ancillary Services and Special Services
International Certificate of Mailing | 14.3
International Insurance | 17.1
Customs and Clearance Delivery Fee | 5.6
Source: See Governors' Decision No. 25-6 at 2-5. Percentage increases for Premium Forwarding Services are based on the proposed rates specified in the supporting materials filed under seal.

Further classification changes are summarized as follows:

• International Direct Sacks—Airmail M-Bags (M-Bags), which are direct sacks containing printed matter to a single addressee mailed to select destinations, may no longer include articles of merchandise exclusively related to the enclosed printed matter. The contents of M-Bags will be restricted to only the printed matter itself.

• USPS Delivered Duty Paid (DDP) is being added as a Competitive Ancillary Services product within MCS section 2645. DDP is a new competitive ancillary service fee that involves the Postal Service facilitating the prepayment by the mailer of any applicable customs duties, taxes, and fees at the time of mailing.

Notice at 2-5; Attachment to Governors' Decision No. 25-6.

II. Initial Administrative Actions

The Commission establishes Docket No. CP2026-2 to consider the Postal Service's Notice. Interested persons may express views and offer comments on whether the planned changes are consistent with 39 U.S.C. 3632, 3633, and 3642, 39 CFR part 3035, and 39 CFR 3040 subparts B and E. Comments are due no later than December 15, 2025. For specific details of the planned price changes, interested persons are encouraged to review the Notice, which is available on the Commission's website at www.prc.gov.

Pursuant to 39 U.S.C. 505, Christopher Mohr is appointed to serve as Public Representative to represent the interests of the general public in this docket. The Public Representative does not represent any individual person, entity or particular point of view, and, when Commission attorneys are appointed, no attorney-client relationship is established.

III. Ordering Paragraphs

It is ordered:

1. The Commission establishes Docket No. CP2026-2 to provide interested persons an opportunity to express views and offer comments on whether the planned changes are consistent with 39 U.S.C. 3632, 3633, and 3642, 39 CFR part 3035, and 39 CFR 3040 subparts B and E.

2. Comments are due no later than December 15, 2025.

3. Pursuant to 39 U.S.C. 505, the Commission appoints Christopher Mohr to serve as an officer of the Commission (Public Representative) to represent the interests of the general public in this docket.

4. The Secretary shall arrange for publication of this order in the Federal Register.

By the Commission.
Erica A. Barker,
Secretary.

[FR Doc. 2025-20650 Filed 11-20-25; 8:45 am]

BILLING CODE 7710-FW-P